FEDERAL COMMUNICATIONS COMMISSION

Sunshine Act Meeting

August 3, 2000.

Deletion of Agenda Items from August 3rd Meeting

The following items have been deleted from the list of agenda items scheduled for consideration at the August 3, 2000, Open Meeting and previously listed in the Commission's Notice of July 27, 2000. Item 4 has been adopted by the Commission.

Item No., Bureau, and Subject

3—Common Carrier—Title: Deployment of Wireline Services Offering Advanced Telecommunications Capability (CC Docket No. 98-147). Summary: The Commission will consider an Order on Reconsideration and Second Further Notice of Proposed Rule Making regarding the collocation obligations of incumbent LECs.

4—International—Title: Applications of INTELSAT LLC for Authority to Operate, and to Further Construct, Launch, and Operate C-band and Ku-band Satellites that Form a Global Communications System in Geostationary Orbit (File Nos. SAT-A/O-20000119-00002 to SAT-A/O-20000119-00018; SAT-AMD-20000119-00029 to SAT-AMD-20000119-00041; SAT-LOA-20000119-00019 to SAT-LOA-20000119-00028. Summary: The Commission will consider a Memorandum Opinion Order and Authorization concerning applications requesting (1) licenses to operate 17 existing C-band and Ku-band satellites, presently owned and operated by the International Telecommunications Satellite Organization (INTELSAT); (2) licenses to construct, launch and operate 10 planned satellites by INTELSAT for operation in these bands; and (3) for authority to relocate certain currently operating satellites to other orbit locations upon the launch of planned satellites.

Federal Communications Commission.
Magalie Roman Salas,
Secretary.

[FR Doc. 00-20188 Filed 8-4-00; 8:45 am]

BILLING CODE 6712-01-M